DEPARTMENT OF HEALTH AND HUMAN SERVICES

Health Resources and Services Administration

Solicitation of Nominations for Membership To Serve on the National Advisory Council on Nurse Education and Practice

AGENCY: Health Resources and Services Administration (HRSA), Department of Health and Human Services (HHS).

ACTION: Request for nominations.

SUMMARY: HRSA is seeking nominations of qualified candidates to consider for appointment as members of the National Advisory Council on Nurse Education and Practice (NACNEP). NACNEP provides advice and recommendations to the Secretary of HHS (Secretary) on policy, program development, and other matters of significance concerning the activities under Title VIII of the Public Health Service (PHS) Act, including the range of issues relating to the nurse workforce, education, and practice improvement. NACNEP also prepares and submits an annual report to the Secretary and Congress describing its activities, including NACNEP's findings and recommendations concerning activities under Title VIII, as required by the PHS Act. HRSA is seeking nominations of qualified candidates to fill up to 11 open positions on NACNEP.

DATES: HRSA will accept nominations for membership on NACNEP on a continuous basis.

ADDRESSES: Nomination packages may be submitted electronically by email to BHWAdvisoryCouncil@hrsa.gov. Nomination packages may also be submitted by mail addressed to Advisory Council Operations, Bureau of Health Workforce, HRSA, 5600 Fishers Lane, Room 15W10, Rockville, Maryland 20857.

FOR FURTHER INFORMATION CONTACT: Dr. Justin Bala-Hampton, Designated Federal Officer, NACNEP, by phone at (301) 443-2866, or by email at BHWNACNEP@hrsa.gov. A copy of the NACNEP charter and a list of the current membership may be obtained by accessing the NACNEP website at https://www.hrsa.gov/advisory-committees/nursing.

SUPPLEMENTARY INFORMATION: NACNEP advises and makes recommendations to the Secretary and Congress on policy matters arising in the administration of Title VIII of the PHS Act, including the range of issues relating to the nurse workforce, nursing education, and nursing practice improvement, as a means of enhancing the health of the public through the development of the nurse workforce. NACNEP meets at least twice each calendar year or may meet more frequently at the discretion of the Designated Federal Officer in consultation with the Chair.

Nominations: HRSA is requesting nominations for voting members to serve as Special Government Employees (SGE) on NACNEP to fill open positions. The Secretary appoints NACNEP members with the expertise needed to fulfill the duties of the Advisory Council. The membership requirements are set forth at section 851(b) of Title VIII of the PHS Act, as amended.

Nominees sought are individuals representing leading authorities in the various fields of nursing, higher and secondary education, and associate degree schools of nursing; representatives of advanced education nursing groups (such as nurse practitioners, nurse midwives, clinical nurse specialists, and nurse anesthetists); hospitals and other institutions and organizations which provide nursing services; practicing professional nurses; the general public; and full-time students enrolled in schools of nursing. In making such appointments, the Secretary shall ensure a fair balance between the nursing specialties, a broad geographic representation of members, and a balance between urban and rural members. Members shall be appointed based on their competence, interest, and knowledge of the mission of the profession involved. As required by PHS Act section 851(b)(3), the Secretary shall ensure the adequate representation of minorities. HRSA is particularly interested in seeking nominations from individuals who can represent underrepresented groups in the nursing profession.

The majority of NACNEP members shall be nurses. Interested applicants may self-nominate or be nominated by another individual or organization.

Individuals selected for appointment to NACNEP will be invited to serve a term of 4 years. Members appointed as SGEs receive a stipend and reimbursement for per diem and travel expenses incurred for attending NACNEP meetings and/or conducting other business on behalf of NACNEP, as authorized by section 5 U.S.C. 5703 for persons employed intermittently in government service and PHS Act section 762(g).

The following information must be included in the package of materials submitted for each individual nominated for consideration: (1) if nominated by another individual or organization, a letter of nomination from the nominator stating the basis for the nomination (i.e., what specific attributes, perspectives, and/or skills does the individual possess that would benefit the workings of NACNEP, and the nominee's field(s) of expertise), as well as the nominator's name, affiliation, and contact information (address, daytime telephone number, and email address); (2) letter of interest from the applicant stating the reasons the applicant would like to serve on NACNEP; (3) a biographical sketch of the applicant, including the applicant's curriculum vitae and contact information (address, daytime telephone number, and email address). Nomination packages may be submitted directly by the applicant or by the person/organization nominating the candidate.

HHS endeavors to ensure that the membership of NACNEP is balanced fairly in terms of points of view represented. Appointments shall be made without discrimination of age, race, ethnicity, gender, sexual orientation, or cultural, religious, or socioeconomic status.

Individuals who are selected to be considered for appointment will be required to provide detailed information regarding their financial holdings, consultancies, and research grants or contracts. Disclosure of this information is required for HRSA ethics officials to determine whether there is a potential conflict of interest between the SGE's public duties as a member of NACNEP and their private interests, including an appearance of a loss of impartiality as defined by federal laws and regulations, and to identify any required remedial action needed to address the potential conflict.

Authority: NACNEP is authorized by section 851 of the PHS Act (42 U.S.C. 297t), as amended. NACNEP is governed by provisions of the Federal Advisory Committee Act of 1972 (5 U.S.C. Chapter 10).

Maria G. Button,
Director, Executive Secretariat.

[FR Doc. 2024-01396 Filed 1-24-24; 8:45 am]

BILLING CODE 4165-15-P